DEPARTMENT OF COMMERCE

Foreign-Trade Zones Board

[B-11-2013]

Foreign-Trade Zone 45—Portland, OR; Notification of Proposed Production Activity; SoloPower Inc. (Thin Film Photovoltaic Solar Panels); Portland, OR

SoloPower Inc. (SoloPower) has submitted a notification of proposed production activity for their facility in Portland, Oregon. The notification conforming to the requirements of the regulations of the Board (15 CFR 400.22) was received on January 28, 2013.

The SoloPower facility is located within Site 1 of FTZ 45. The facility is used for the production of thin film photovoltaic solar panels. Pursuant to 15 CFR 400.14(b), FTZ activity would be limited to the specific foreign-status materials and components and specific finished products described in the submitted notification (described below) and subsequently authorized by the FTZ Board.

Production under FTZ procedures could exempt SoloPower from customs duty payments on the foreign status components used in export production (an estimated 90 percent of production). On its domestic sales, SoloPower would be able to choose the duty rate during customs entry procedures that applies to the thin film solar panels (duty-free) for the foreign status inputs noted below. Customs duties also could possibly be deferred or reduced on foreign status production equipment.

The components and materials sourced from abroad include: Polymer film; diodes; conductive paste; junction boxes; sealant; silicone rubber; polyester adhesive tape; sodium citrate; thiourea; selenium shot; gallium oxide; indium chloride concentrate; gallate solution; selenious acid concentrate; gas dispersion machine sputtering targets of molybdenum, copper, ruthenium, indium tin oxide alloy, zinc oxide alloy, chromium metal, and titanium; and cold-rolled stainless steel foil (duty rates range from free to 6.5%). SoloPower indicates that the cold-rolled stainless steel foil is subject to antidumping/countervailing duty (AD/CVD) orders. The FTZ Board's regulations (15 CFR 400.14(e)) require that merchandise subject to AD/CVD actions be admitted to the zone in privileged foreign status (19 CFR 146.41).

Public comment is invited from interested parties. Submissions shall be addressed to the Board's Executive Secretary at the address below. The closing period for their receipt is March 18, 2013.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Diane Finver at Diane.Finver@trade.gov (202) 482-1367.

Dated: January 31, 2013.
Andrew McGilvray,
Executive Secretary.

[FR Doc. 2013-02639 Filed 2-5-13; 8:45 am]

BILLING CODE P